DEPARTMENT OF ENERGY

Federal Energy Regulatory Commission

Combined Notice of Filings #1

Take notice that the Commission received the following electric rate filings:

Docket Numbers: ER19-1280-002; ER19-1281-003.

Applicants: Broadlands Wind Farm LLC, Lexington Chenoa Wind Farm LLC.

Description: Notice of Change in Status of Broadlands Wind Farm LLC, et al.

Filed Date: 7/30/21.

Accession Number: 20210730-5274.

Comments Due: 5 p.m. ET 8/20/21.

Docket Numbers: ER21-1225-002.

Applicants: Long Ridge Energy Generation LLC.

Description: Tariff Amendment: Response to Request for Additional Information to be effective 4/29/2021.

Filed Date: 7/30/21.

Accession Number: 20210730-5167.

Comments Due: 5 p.m. ET 8/20/21.

Docket Numbers: ER21-1805-001.

Applicants: Upper Missouri G. & T. Electric Cooperative, Inc.

Description: Tariff Amendment: Response to Deficiency Letter FERC Nos. 1,2,3,5, and 11 to be effective 6/30/2021.

Filed Date: 8/2/21.

Accession Number: 20210802-5001.

Comments Due: 5 p.m. ET 8/23/21.

Docket Numbers: ER21-1993-001.

Applicants: Upper Missouri G. & T. Electric Cooperative, Inc.

Description: Tariff Amendment: Response to Deficiency Letter FERC Nos. 1, 5, 7, 8, and 9 to be effective 5/25/2021.

Filed Date: 8/2/21.

Accession Number: 20210802-5000.

Comments Due: 5 p.m. ET 8/23/21.

Docket Numbers: ER21-2137-001.

Applicants: IR Energy Management LLC.

Description: Tariff Amendment: Supplement to June 15, 2021 Application for Market-Based Rate Authorization to be effective 9/10/2021.

Filed Date: 8/2/21.

Accession Number: 20210802-5030.

Comments Due: 5 p.m. ET 8/23/21.

Docket Numbers: ER21-2583-000.

Applicants: PJM Interconnection, L.L.C.

Description: § 205(d) Rate Filing: Amendment to WMPA, Service Agreement No. 5821; Queue No. AF2-101 to be effective 9/10/2020.

Filed Date: 8/2/21.

Accession Number: 20210802-5015.

Comments Due: 5 p.m. ET 8/23/21.

Docket Numbers: ER21-2584-000.

Applicants: PJM Interconnection, L.L.C.

Description: Tariff Cancellation: Notice of Cancellation of WMPA, Service Agreement No. 4233; Queue No. AB1-005 to be effective 8/31/2021.

Filed Date: 8/2/21.

Accession Number: 20210802-5016.

Comments Due: 5 p.m. ET 8/23/21.

Docket Numbers: ER21-2585-000.

Applicants: Pacific Gas and Electric Company.

Description: § 205(d) Rate Filing: Q2 2021 Quarterly Filing of City and County of San Francisco's WDT SA (SA 275) to be effective 6/30/2021.

Filed Date: 8/2/21.

Accession Number: 20210802-5035.

Comments Due: 5 p.m. ET 8/23/21.

Docket Numbers: ER21-2586-000.

Applicants: Alabama Power Company.

Description: § 205(d) Rate Filing: SA Solar LGIA Filing to be effective 7/19/2021.

Filed Date: 8/2/21.

Accession Number: 20210802-5039.

Comments Due: 5 p.m. ET 8/23/21.

Docket Numbers: ER21-2587-000.

Applicants: Alabama Power Company.

Description: Tariff Cancellation: RE Sumter (Sumter County Solar) LGIA Termination Filing to be effective 8/2/2021.

Filed Date: 8/2/21.

Accession Number: 20210802-5040.

Comments Due: 5 p.m. ET 8/23/21.

Docket Numbers: ER21-2588-000.

Applicants: PJM Interconnection, L.L.C.

Description: § 205(d) Rate Filing: First Revised ISA, SA No. 5958; Queue No. AC1-074/AC2-075 to be effective 7/1/2021.

Filed Date: 8/2/21.

Accession Number: 20210802-5050.

Comments Due: 5 p.m. ET 8/23/21.

Docket Numbers: ER21-2589-000.

Applicants: California Independent System Operator Corporation.

Description: § 205(d) Rate Filing: 2021-08-02 Certificate of Concurrence—Desert Quartzite to be effective 7/16/2021.

Filed Date: 8/2/21.

Accession Number: 20210802-5065.

Comments Due: 5 p.m. ET 8/23/21.

Docket Numbers: ER21-2590-000.

Applicants: Tri-State Generation and Transmission Association, Inc.

Description: § 205(d) Rate Filing: Rate Schedule FERC No. 333 between Tri-State and United Power to be effective 10/1/2021.

Filed Date: 8/2/21.

Accession Number: 20210802-5076.

Comments Due: 5 p.m. ET 8/23/21.

Docket Numbers: ER21-2591-000.

Applicants: Arizona Public Service Company.

Description: Compliance filing: OATT Modifications—Pursuant to Order 676-I to be effective 12/31/9998.

Filed Date: 7/27/21.

Accession Number: 20210727-5180.

Comments Due: 5 p.m. ET 8/17/21.

Docket Numbers: ER21-2592-000.

Applicants: Pacific Gas and Electric Company.

Description: § 205(d) Rate Filing: CXA La Paloma Unexecuted LGIA (TO SA 420) to be effective 8/3/2021.

Filed Date: 8/2/21.

Accession Number: 20210802-5088.

Comments Due: 5 p.m. ET 8/23/21.

Take notice that the Commission received the following electric securities filings:

Docket Numbers: ES21-61-000; ES21-62-000; ES21-63-000; ES21-64-000.

Applicants: AEP Texas Inc., Appalachian Power Company, Indiana Michigan Power Company, Public Service Company of Oklahoma.

Description: Application Under Section 204 of the Federal Power Act for Authorization to Issue Securities of AEP Texas Inc., et al.

Filed Date: 7/30/21.

Accession Number: 20210730-5206.

Comments Due: 5 p.m. ET 8/20/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 2, 2021.
Debbie-Anne A. Reese,
Deputy Secretary.

[FR Doc. 2021-16811 Filed 8-5-21; 8:45 am]

BILLING CODE 6717-01-P